DEPARTMENT OF THE INTERIOR

Bureau of Land Management

[LLWO320000 L19900000 EX0000]

Extension of Approved Information Collection, OMB Control Number 1004-0194

AGENCY: Bureau of Land Management, Interior.

ACTION: 60-day notice and request for comments.

SUMMARY: In compliance with the Paperwork Reduction Act of 1995, the Bureau of Land Management (BLM) announces its intention to request that the Office of Management and Budget (OMB) extend approval for the collection of information under 43 CFR subpart 3809. The OMB previously approved this collection of information and assigned it the control number 1004-0194.

DATES: You must submit your comments to the BLM at the address below on or before March 9, 2010. The BLM is not obligated to consider any comments postmarked or received after the above date.

ADDRESSES: You may mail comments to: U.S. Department of the Interior, Bureau of Land Management, Mail Stop 401-LS, 1849 C St., NW., Washington, DC 20240, Attention: 1004-0194. You may also comment electronically at: Jean_Sonneman@blm.gov.

FOR FURTHER INFORMATION CONTACT: You may contact Adam Merrill, Solid Minerals Group, at (202) 912-7044 (Commercial or FTS). Persons who use a telecommunication device for the deaf (TDD) may call the Federal Information Relay Service (FIRS) on 1-800-877-8339, 24 hours a day, seven days a week, to contact Mr. Merrill. You may also contact Mr. Merrill to obtain a copy, at no cost, of the regulations and forms that require this collection of information.

SUPPLEMENTARY INFORMATION: OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR subpart 3809. The BLM will request that the OMB approve this information collection activity for a 3-year term.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany the BLM's submission of the information collection requests to OMB.

The following information is provided for the information collection:

Title: Surface Management Activities under the General Mining Law (43 CFR subpart 3809).

Forms

• Form 3809-1, Surface Management Surety Bond;

• Form 3809-2, Surface Management Personal Bond;

• Form 3809-4, Bond Rider Extending Coverage of Bond to Assume Liabilities for Operations Conducted by Parties Other Than the Principal;

• Form 3809-4a, Surface Management Personal Bond Rider; and

• Form 3809-5, Notification of Change of Operator and Assumption of Past Liability.

OMB Control Number: 1004-0194.

Abstract: This collection of information enables the BLM to determine whether operators and mining claimants are meeting their responsibility to prevent unnecessary or undue degradation while conducting exploration and mining activities on public lands under the General Mining Law (30 U.S.C. 22-54.). It also enables the BLM to obtain financial guarantees for the reclamation of public lands. This collection of information is found at 43 CFR subpart 3809, and in the forms listed above.

Frequency: On occasion.

Description of Respondents: Operators and mining claimants.

Estimated Reporting and Recordkeeping “Hour” Burden: The currently approved annual reporting burden for this collection is 1,369 responses and 166,661 hours. The following tables detail the individual components and estimated annual hour burdens of this collection.

Table 1—Initial and Extended Plan of Operations
43 CFR citation | Type of response | Number of responses | Hours per response | Total hours
3809.11 | Plan of Operations | 54 | 245 | 13,230
3809.401(c) | Data for EIS | 6 | 4,960 | 29.760
3809.401(c) | Data for Standard EA | 16 | 890 | 14,240
3809.401(c) | Data for Simple Exploration EA | 35 | 320 | 11,200
Totals |  | 111 |  | 68,430

Table 2—Modification of Plan of Operations
43 CFR citation | Type of response | Number of responses | Hours per response | Total hours
3809.430 and 3809.431 | Modification of Plan of Operations | 96 | 245 | 23,520
3809.432(a) and 3809.401(c) | Data for EIS | 2 | 4,960 | 9,920
3809.432(a) and 3809.401(c) | Data for Standard EA | 29 | 890 | 25,810
3809.432(a) and 3809.401(c) | Data for Simple Exploration EA | 62 | 320 | 19,840
Totals |  | 189 |  | 79,090

Table 3—Initial, Modified and Extended Notice of Operations
43 CFR citation | Type of response | Number of responses | Hours per response | Total hours
3809.21 | Notice of Operations | 386 | 32 | 12,352
3809.330 | Modification of Notice of Operations | 108 | 32 | 3,456
3809.333 | Extension of Notice of Operations | 169 | 0.5 | 85
Totals |  | 663 |  | 15,893

Table 4—Financial Guarantee Requirements
43 CFR citation | Type of response | Number of responses | Hours per response | Total hours
3809.500 | Form 3809-1, Surface Management Surety Bond | 67 | 8 | 536
3809.500 | Form 3809-2, Surface Management Personal Bond | 270 | 8 | 2,160
3809.500 | Form 3809-4, Bond Rider Extending Coverage of Bond | 13 | 8 | 104
3809.500 | Form 3809-4a, Surface Management Personal Bond Rider | 10 | 8 | 80
3809.116 | Form 3809-5, Notification of Change of Operator and Assumption of Past Liability | 46 | 8 | 368
Totals |  | 406 |  | 3,248

Estimated Reporting and Recordkeeping “Non-Hour Cost” Burden: The only non-hour costs are $5,600 in fees for notarizing Forms 3809-2 and 3809-4a ($20 per form × 280 forms annually = $5,600).

The Paperwork Reduction Act (44 U.S.C. 3501, et seq.) provides that an agency may not conduct or sponsor a collection of information unless it displays a currently valid OMB control number. Until OMB approves a collection of information, you are not obligated to respond.

The BLM will summarize all responses to this notice and include them in the request for OMB approval. All comments will become a matter of public record.

Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer, Bureau of Land Management.

[FR Doc. 2010-92 Filed 1-7-10; 8:45 am]

BILLING CODE 4310-84-P